FEDERAL ELECTION COMMISSION

Sunshine Act Meetings

Federal Register Notice of Previous Announcement: 80 FR 34157, June 15, 2015.

PREVIOUSLY ANNOUNCED TIME AND DATE OF THE MEETING: Thursday, June 18, 2015 at 10:00 a.m.

CHANGES IN THE MEETING:

This item was also discussed:

Motion to Authorize the Publication of, and Expenses for, a Forty Year Report

CONTACT PERSON FOR MORE INFORMATION: Judith Ingram, Press Officer, Telephone: (202) 694-1220.

Individuals who plan to attend and require special assistance, such as sign language interpretation or other reasonable accommodations, should contact Shawn Woodhead Werth, Secretary and Clerk, at (202) 694-1040, at least 72 hours prior to the meeting date.

Shawn Woodhead Werth,
Secretary and Clerk of the Commission.

[FR Doc. 2015-15445 Filed 6-19-15; 11:15 am]

BILLING CODE 6715-01-P